LEGAL SERVICES CORPORATION

Sunshine Act Meeting

TIME AND DATE: The Legal Services Corporation Board of Directors' Development Committee (“Committee”) will meet telephonically on December 17, 2010. The meeting will begin at 4:30 p.m., Eastern Time, and continue until completion of the Committee's agenda.

LOCATION: Legal Services Corporation, F. William McCalpin Conference Center, 3rd Floor, 3333 K Street, NW., Washington, DC 20007.

PUBLIC OBSERVATION: Unless otherwise noticed, all meetings of the LSC Board of Directors are open to public observation. Members of the public that are unable to attend but wish to listen to a public proceeding may do so by following the telephone call-in directions given below. You are asked to keep your telephone muted to eliminate background noises. From time to time the presiding Chair may solicit comments from the public.

CALL-IN DIRECTIONS FOR OPEN SESSIONS:

• Call toll-free number: 1 (866) 451-4981;

• When prompted, enter the following numeric pass code: 5907707348;

• When connected to the call, please “mute” your telephone immediately.

STATUS OF MEETING: Open, except that a portion of the meeting will be closed to the public pursuant to a vote of the Board of Directors authorizing the Committee to consider and possibly act on a pool of potential donors. Such closure is authorized by the relevant provisions of the Government in the Sunshine Act [5 U.S.C. 552b(c)(6)] and LSC's implementing regulation 45 CFR 1622.5(e).¹ The transcript of any portions of the closed session falling within the relevant provisions of the Government in Sunshine Act, 5 U.S.C. 552b(c)(6), and LSC's implementing regulation, 45 CFR 1622.5(e), will not be available for public inspection. The transcript of any portions not falling within these provisions will be available for public inspection.

¹ 45 CFR 1622.5(e) protects information the disclosure of which would constitute a clearly unwarranted invasion of personal privacy.

MATTERS TO BE CONSIDERED:

Open Session

1. Approval of Agenda

2. Consider and act on proposed calendar year 2011 initiatives and agenda for the Committee

3. Public Comment

Closed Session

4. Consider and act on pool of potential donors

5. Consider and act on other business

6. Consider and act on adjournment of meeting

CONTACT PERSON FOR INFORMATION: Katherine Ward, Executive Assistant, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine Ward at (202) 295-1500 or FR_NOTICE_QUESTIONS@lsc.gov.

Dated: December 13, 2010.
Patricia D. Batie,
Corporate Secretary.

[FR Doc. 2010-31645 Filed 12-13-10; 4:15 pm]

BILLING CODE 7050-01-P